DEPARTMENT OF TRANSPORTATION

Federal Aviation Administration

Notice of Intent To Rule on Request To Release Airport Property at Houma Terrebonne Airport, Houma, LA

AGENCY: Federal Aviation Administration (FAA), DOT.

ACTION: Notice of request to release airport property.

SUMMARY: The FAA proposes to rule and invites public comment on the release of land at the Houma Terrebonne Airport, Houma, Louisiana. The property consists of two small parcels of land, together with all the improvements situated thereon, and all the rights, ways, privileges, servitudes and advantages thereunto belonging or in anywise appertaining. This land is located approximately 4,700 feet west of the Houma Terrebonne Airport, of Houma, Louisiana. The land in question was acquired by the Terrebonne Parish on June 17, 1958, through provisions of the Federal Property Administrative Services Act of 1949 (63 Stat. 765), the Surplus Property Act of 1944 (58 Stat. 765) as amended thereby.

As airport owner, the Terrebonne Parish has requested to release two parcels in an effort to obtain additional funding for airport improvement at the Houma Terrebonne Airport. As part of this release, this parcel will change from aeronautical to non-aeronautical use and be limited to some type of commercial or industrial use under the provisions of Section 125 of the Wendell H. Ford Aviation Investment Reform Act for the 21st Century (AIR 21).

DATES: Comments must be received on or before May 20, 2011.

ADDRESSES: Comments on this application may be mailed or delivered to the FAA at the following address: Mr. Lacey D. Spriggs, Federal Aviation Administration, Southwest Region, Airports Division, Manager/Louisiana/New Mexico Airports Development Office, ASW-640, Fort Worth, Texas 76137-0640.

In addition, one copy of any comments submitted to the FAA must be mailed or delivered to Mr. Bradley R. Brandt, Louisiana Department of Transportation, Acting Aviation Director, at the following address: P.O. Box 94245, Baton Rouge, Louisiana 70804-9245.

FOR FURTHER INFORMATION CONTACT: Mr. Justin Barker, Federal Aviation Administration, Program Manager/Louisiana/New Mexico Airports Development, Office, ASW-640, 2601 Meacham Boulevard, Fort Worth, Texas 76137-0640.

The request to release property may be reviewed in person at this same location.

SUPPLEMENTARY INFORMATION: The FAA invites public comment on the request to release property at the Houma Terrebonne Airport under the provisions of the AIR 21.

The following is a brief overview of the request:

As airport owner, the Terrebonne Parish has requested to release two parcels comprised of 0.064 acres and of 0.085 acres that was acquired under the Federal Property Administrative Services Act of 1949 (63 Stat. 765), the Surplus Property Act of 1944 (58 Stat. 765) as amended thereby.

The release of property will not adversely affect the Houma Terrebonne Airport because these parcels are located on the east side of Louisiana 57, at southeast corner with Hancock Road, approximately 4,700 feet west of the airport Houma Terrebonne Airport. These parcels are situated in Section 12, Township 17 South, Range 17 East, Southeastern (West of River) Land District, Terrebonne Parish, Louisiana. The sale is estimated to provide $12,939.80 and $20,943.00 for a sum of $33,882.80 to be used for airport improvements at the Houma Terrebonne Airport.

Any person may inspect the request in person at the FAA office listed above under FOR FURTHER INFORMATION CONTACT.

In addition, any person may, upon request, inspect the application, notice and other documents germane to the application in person at the Houma Terrebonne Airport.

Issued in Fort Worth, Texas, on April 4, 2011.
Kelvin L. Solco,
Manager, Airports Division.

[FR Doc. 2011-8749 Filed 4-19-11; 8:45 am]

BILLING CODE 4910-13-M